NATIONAL SCIENCE FOUNDATION

Advisory Panel for Integrative Activities, #1373; Notice of Meeting

In accordance with the Federal Advisory Committee Act (Pub. L. 92-463, as amended), the National Science Foundation announces the following meeting.

Name: Major Research Infrastructure (MRI) Committee of Visitors Meeting.

Date/Time: June 10-11, 2010, 8 a.m.-5 p.m.

Place: National Science Foundation, Stafford II, Room 515, Arlington, VA.

Type of Meeting: Partially-closed.

Contact Person: Craig Henderson, Staff Associate, Office of Integrative Activities, National Science Foundation, Telephone (703) 292-8040.

Purpose of Meeting: To carry out Committee of Visitors (COV) review, including examination of decisions on proposals, reviewer comments, and other privileged materials.

Agenda:

June 10, 2010, 8 a.m.-10 a.m. Open Session

Welcome and introduction of COV Members and present the overview of the MRI Program to the members.

June 10, 2010, 10 a.m.-5 p.m. and June 11, 2010, 8 a.m.-5 p.m. Closed Session

Review and evaluate the Major Research Instrumentation Program and provide assessment of program level technical and managerial matters pertaining to proposal decisions and program operations.

Reason for Closing: Sessions of the meeting are closed to the public because the Committee is reviewing proposal actions that will include confidential commercial information and/or privileged intellectual property disclosure of which could harm the submitters' commercial interests, and personal information disclosure of which could invade individuals' personal privacy. If discussions were open to the public, these matters that are exempt under 5 U.S.C. 552b(c), (4) and (6) of the Government in the Sunshine Act would be improperly disclosed.

Dated: May 18, 2010.
Susanne Bolton,
Committee Management Officer.

[FR Doc. 2010-12330 Filed 5-21-10; 8:45 am]

BILLING CODE 7555-01-P